DEPARTMENT OF DEFENSE

Department of the Navy

Notice of Intent To Grant Partially Exclusive Patent License; Pinon Technologies, Inc.

AGENCY: Department of the Navy, DoD.

ACTION: Notice.

SUMMARY: The Department of the Navy herby gives notice of its intent to grant to Pinon Technologies, Inc., a revocable, nonassignable, partially exclusive license in the United States to practice the Government-Owned invention(s) described in U.S. Patent Number 5,962,863 entitled “Laterally Disposed Nanostructures of Silicone on Insulating Substrate”, issue date October 4, 1999.

DATES: Anyone wishing to object to the grant of this license must file written objections along with supporting evidence, if any, not later than September 4, 2008.

ADDRESSES: Written objections are to be filed with the Office of Research and Technology Applications, Space and Naval Warfare Systems Center, San Diego, Code 73120, 53560 Hull St., San Diego, CA 92152-5001.

FOR FURTHER INFORMATION CONTACT: Stephen H. Lieberman, Ph.D., Office of Research and Technology Applications, Space and Naval Warfare Systems Center, San Diego, Code 73120, 53560 Hull St., San Diego, CA 92152-5001, telephone: 619-553-2778, E-Mail: stephen.lieberman@navy.mil.

Authority: 35 U.S.C. 207, 37 CFR Part 404.

Dated: August 14, 2008.
T. M. Cruz,
Lieutenant Commander, Office of the Judge Advocate General, U.S. Navy, Federal Register Liaison Officer.

[FR Doc. E8-19244 Filed 8-19-08; 8:45 am]

BILLING CODE 3810-FF-P